ENVIRONMENTAL PROTECTION AGENCY

[OECA-2003-0025; FRL-7593-8]

Agency Information Collection Activities; Submission for OMB Review and Approval; Comment Request; NSPS for Commercial and Industrial Solid Waste Incineration Units (40 CFR Part 60, Subpart CCCC), EPA ICR Number 1926.03, OMB Control Number 2060-0450

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on January 31, 2004. Under OMB regulations, the Agency may continue to conduct or sponsor the collection of information while this submission is pending at OMB. This ICR describes the nature of the information collection and its estimated burden and cost.

DATES: Additional comments may be submitted on or before January 5, 2004.

ADDRESSES: Submit your comments, referencing docket ID number OECA-2003-0025, to (1) EPA online using EDOCKET (our preferred method), by email to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Mail Code 2223A, Office of Compliance, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On May 19, 2003 (68 FR 27059), EPA sought comments on this ICR pursuant to 5 CFR 1320.8(d). EPA has addressed the comments received.

EPA has established a public docket for this ICR under Docket ID No. OECA-2003-0025, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comment, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: NSPS for Commercial and Industrial Solid Waste Incineration Units (40 CFR Part 60, Subpart CCCC).

Abstract: The New Source Performance Standards (NSPS) for Commercial and Industrial Solid Waste Incineration Units (CISWI) (40 CFR part 60, subpart CCCC), was proposed on December 1, 2000, and promulgated on March 27, 2001. The standards require initial performance tests for 10 pollutants, annual performance testing for particulate matter (PM), hydrogen chloride (HCl), opacity continuous operating parameter monitoring, annual operator training and annual reporting (deviation reports are required if any of the emission limitations or operating limits are exceeded).

This standard applies to owners or operators of new stationary sources, that is, incineration units that meet either of the two criteria: (1) Sources for which construction begins after the NSPS is proposed which is November 30, 1999, or (2) sources that are reconstructed or modified on or after June 1, 2001. The standard applies to combustion devices that combust commercial and industrial waste. Commercial and industrial waste is a solid waste combusted in an enclosed device using controlled flame combustion without energy recovery, which is a distinct operating unit of any commercial or industrial facility, including field-erected, modular, and custom-built incineration units operating with starved or excess air, or solid waste combusted in an air curtain incinerator without energy recovery.

Owners or operators subject to the provisions of this part will perform annual performance testing on an ongoing basis, ensuring that the air pollution control device is operating properly and its performance has not deteriorated. To minimize the burden of the annual performance testing, the rule only required those respondent tests for PM, HCl, and opacity. Annual performance testing is not required for dioxins/furans, cadmium (Cd), carbon monoxide (CO), lead (Pb), mercury (Hg), nitrogen oxides (NOX), and sulfur dioxide (SO2). This significantly reduces the testing costs while still providing the EPA with sufficient data to adequately assess compliance. The rule allows respondents to skip two annual tests for a pollutant if all performance tests over the previous three years show compliance with the emission limit. The owner or operator must establish maximum or minimum values for each operating parameter during the initial performance tests for PM, dioxins/furans, opacity, HCl, Cd, Pb, Hg, CO, NOX and SO2.

Owners or operators subject to this provision must perform the following activities: Conduct performance tests, monitor operating parameters, prepare siting analysis, prepare waste management plan, operator training and qualifications, one-time and periodic reports, and the maintenance of records. Reports are submitted annually and semiannually. With the exception of requiring records to be maintained for more than three years, none of the guidelines in CFR 1320.5 are being exceeded. In 40 CFR subpart A, “General Provisions for National Emission Standards for Hazardous Air Pollutants for Source Categories,” and under section 129 of the Act, CISWI facilities are subject to similar MACT-based regulations, requiring all records to be maintained at the source for a period of five years. In addition, Title V permit programs also require records to be retained for five years.

The proposed standards include annual operator training requirements for incinerator unit operators (rule requires at least one qualified operator or supervisor per facility). The annual training requirements include annual refresher training to maintain operator qualification and an annual review of site-specific documentation. The way in which an incinerator is operated has a significant impact on the emissions from that incinerator. The annual operator training is essential to ensure that the incinerator is being operated properly.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 325 hours per response. Burdens means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Commercial and industrial solid waste incineration units.

Estimated Number of Respondents: 30.

Frequency of Response: Initial, annual, and semiannual.

Estimated Total Annual Hour Burden: 16,899.

Estimated Total Annual Cost: $1,343,000, includes $13,000 annualized capital/startup costs, $5,000 annual O&M costs, and $1,325,000 labor costs.

Changes in the Estimates: There is an increase of 5,690 hours in the total estimated burden currently identified in the OMB Inventory of Approved ICR Burdens. Approximately six new CISWI units are constructed each year. Therefore, the average number of respondents has increased to 30 in this ICR. In addition, a revised hourly labor rate from the United States Department of Labor, resulted in an increase over the three-year period from the previous ICR.

Dated: November 24, 2003.
Doreen Sterling,
Acting Director, Collection Strategies Division.

[FR Doc. 03-30161 Filed 12-3-03; 8:45 am]

BILLING CODE 6560-50-P